DEPARTMENT OF HEALTH AND HUMAN SERVICES

Centers for Disease Control and Prevention

[30Day-07-05BW]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4794 or send an e-mail to omb@cdc.gov. Send written comments to CDC Desk Officer, Office of Management and Budget, Washington, DC or by fax to (202) 395-6974. Written comments should be received within 30 days of this notice.

Proposed Project

Survey of Primary Care Physicians' Practices regarding Prostate Cancer Screening—New—National Center for Chronic Disease and Public Health Promotion (NCDDPHP), Centers for Disease Control and Prevention (CDC).

Background and Brief Description

Prostate cancer is the most common cancer in men and is the second leading cause of cancer deaths, behind lung cancer. The American Cancer Society estimated that there would be about 234,460 new cases of prostate cancer and about 27,350 deaths in 2006. Although prostate cancer deaths have declined over the past several years, it ranks fifth among deaths from all causes. The digital rectal examination (DRE) and prostate specific antigen (PSA) test are used to screen for prostate cancer. Screening is controversial and many are not in agreement as to whether the potential benefits of screening outweigh the risks, that is, if prostate specific antigen (PSA) based screening, early detection, and later treatment increases longevity. Although major medical organizations are divided on whether men should be routinely screened for this disease, it appears that all of the major organizations recommend discussion with patients about the benefits and risks of screening.

The purpose of this project is to develop and administer a national survey to a sample of American primary care physicians to examine whether or not they: Screen for prostate cancer using (PSA and/or DRE), recommend testing and under what conditions, discuss the tests and the risks and benefits of screening with patients, and if their screening practices vary by factors such as age, ethnicity, and family history. This study will examine demographic, social, and behavioral characteristics of physicians as they relate to screening and related issues, including knowledge and awareness, beliefs regarding efficacy of screening and treatment, frequency of screening, awareness of the screening controversy, influence of guidelines from medical, practice and other organizations, and participation and/or willingness to participate in shared decision-making.

There are no costs to the respondents other than their time. The total estimated annualized burden hours are 1,032.5.

Estimated Annualized Burden Hours
Type of respondents | Form name | Number of respondents | Number of responses per respondent | Average burden per response (in hours) | Total burden (in hours)
Primary Care Physicians (eligible) | Survey of Physicians' Practices | 2,000 | 1 | 30/60 | 1,000
Primary Care Physicians (ineligible) | Survey of Physicians' Practices | 390 | 1 | 5/60 | 32.5

Dated: April 4, 2007.
Joan F. Karr,
Acting Reports Clearance Officer, Centers for Disease Control and Prevention.

[FR Doc. E7-6745 Filed 4-9-07; 8:45 am]

BILLING CODE 4163-18-P